DEPARTMENT OF TRANSPORTATION

Federal Highway Administration

Environmental Impact Statement: King County, WA

AGENCY: Federal Highway Administration, King County, Washington.

ACTION: Notice of intent to prepare an environmental impact statement.

SUMMARY: The FHWA is issuing this notice to advise the public that a joint NEPA/SEPA Environmental Impact Statement will be prepared for a proposed bicycle/pedestrian trail. The trail would be located primarily along a former rail corridor on the east side of Lake Sammamish between the Cities of Issaquah and Redmond in King County, Washington. The EIS will be prepared in conjunction with King County Department of Construction and Facilities Management.

FOR FURTHER INFORMATION CONTACT: Elizabeth Healy, Transportation and Environmental Engineer, Federal Highway Administration, 711 S. Capitol Way, Suite 501, Olympia, WA 98501, Telephone (360) 753-9480; or Ms. Robin Cole, Project Manager, King County Department of Construction and Facilities Management, 500 Fourth Avenue, Room 320, Seattle, WA 98104, Telephone (206) 296-4261.

SUPPLEMENTARY INFORMATION: The purpose of the proposed project is to design and construct a multi-use recreational trail and alternative transportation corridor primarily within the 10.8-mile former Burlington-Northern Santa Fe rail corridor, and to protect the federal railbanking status of the corridor, which was granted in September 1998. This East Lake Sammamish Trail would extend along the east side of Lake Sammamish from Redmond to Issaquah, linking King County's Marymoor Park and West Lake Sammamish Trail to Lake Sammamish State Park and other local and regional trails.

At this time, three alternatives are being considered: a No Action alternative, use of primarily the existing railbed with some off-railbed use, and use of the existing rail corridor with some off-corridor use. The range of alternatives may, however, be modified as a result of public involvement process.

Potential Environmental Issues

King County has conducted a community outreach and preliminary environmental evaluation process. As a result, the County and FWHA have identified the following areas of potentially significant environmental impacts associated with the proposed project: surface water, geology and soils, noise, land and shoreline use, vegetation, wildlife, fisheries, public services and utilities, transportation, safety, recreation, and aesthetics. Additional areas of potential impact may be identified during public involvement.

Public Involvement and Scoping Meetings

During spring and summer 2000, Neighborhood Vision Workshops and User Group Workshops were held by King County to gather information from neighbors of the trail and potential user groups including cyclists, runners, pedestrians, and equestrians.

King County held a public SEPA scoping meeting on November 15, 2000 to provide an opportunity for the public to help the project team identify issues for consideration and evaluation in the environmental review process. The meeting was held at the Inglewood Junior High School, 24120 NE 8th, Redmond, WA 98053.

A public scoping meeting will be held on February 20, 2001 to provide additional opportunity to ensure that proposed alternatives respond to previous input and are comprehensive. Notice of this meeting was also published in local newspapers, including the Seattle Times, the Eastside Journal, and the Issaquah Press. The February 20th scoping meeting will be held at: Skyline High School (Commons Area), 1122-228th Avenue SE, Sammamish, WA 98075, from 6:00 p.m. to 8:30 p.m.

To ensure that the full range of issues related to this proposed action are addressed and all significant issues identified, comments, and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program)

Issued on: January 9, 2001.
Elizabeth Healy,
Transportation and Environmental Engineer, Olympia, Washington.

[FR Doc. 01-1509 Filed 1-17-01; 8:45 am]

BILLING CODE 4910-22-M